DEPARTMENT OF DEFENSE

GENERAL SERVICES ADMINISTRATION

NATIONAL AERONAUTICS AND SPACE ADMINISTRATION

48 CFR Parts 4, 19, 25, and 52

[FAC 2020-06; Item IV; Docket No. FAR-2020-0052; Sequence No. 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: May 6, 2020.

FOR FURTHER INFORMATION CONTACT: Ms. Lois Mandell, Regulatory Secretariat Division (MVCB), 1800 F Street NW, 2nd Floor, Washington, DC 20405, 202-501-4755. Please cite FAC 2020-06, Technical Amendments.

SUPPLEMENTARY INFORMATION: In order to update certain elements in 48 CFR parts 4, 19, 25, and 52 this document makes editorial changes to the FAR.

List of Subjects in 48 CFR parts 4, 19, 25, and 52

Government procurement.

William F. Clark,
Director, Office of Government-wide Acquisition Policy, Office of Acquisition Policy, Office of Government-wide Policy.

Therefore, DoD, GSA, and NASA amend 48 CFR parts 4, 19, 25, and 52 as set forth below:

1. The authority citation for 48 CFR parts 4, 19, 25, and 52 continues to read as follows:

Authority: 40 U.S.C. 121(c); 10 U.S.C. chapter 137; and 51 U.S.C. 20113.

PART 4—ADMINISTRATIVE AND INFORMATION MATTERS

4.1102 [Amended]

2. Amend section 4.1102 by removing from paragraph (a)(3)(ii) “http://aoprals.state.gov/Web920/danger__pay__all.asp” and adding “https://aoprals.state.gov/ ” in its place.

PART 19—SMALL BUSINESS PROGRAMS

19.102 [Amended]

3. Amend section 19.102 by removing from paragraph (a)(1) “https://www.sba.gov/content/table-small-business-size-standards” and adding “https://www.sba.gov/document/support—table-size-standards” in its place.

PART 25—FOREIGN ACQUISITION

25.301-1 [Amended]

4. Amend section 25.301-1 by removing from paragraph (a)(2)(i) “http://aoprals.state.gov/Web920/danger__pay__all.asp” and adding “https://aoprals.state.gov/” in its place.

25.301-4 [Amended]

5. Amend section 25.301-4 by removing from paragraph (b)(1) “http://aoprals.state.gov/Web920/danger__pay__all.asp” and adding “https://aoprals.state.gov/” in its place.

PART 52—SOLICITATION PROVISIONS AND CONTRACT CLAUSES

6. Amend section 52.219-28 by revising the date of the clause and removing from paragraph (d) “http://www.sba.gov/content/table-small-business-size-standards” and adding “https://www.sba.gov/document/support--table-size-standards” in its place to read as follows:

52.219-28 Post-Award Small Business Program Rerepresentation.

* * * * *

Post-Award Small Business Program Rerepresentation MAY 2020

* * * * *

7. Amend section 52.223-15 by revising the date of the clause and removing from paragraph (d)(2) “http://www1.eere.energy.gov/femp/procurement/eep__requirements.html” and adding “https://www.energy.gov/eere/femp/energy-efficient-products-and-energy-saving-technologies” in its place to read as follows:

52.223-15 Energy Efficiency in Energy-Consuming Products.

* * * * *

Energy Efficiency in Energy-Consuming Products MAY 2020

* * * * *

8. Amend section 52.225-19 by revising the date of the clause and removing from paragraphs (b)(1)(ii)(A) and (q)(2)(i) “http://aoprals.state.gov/Web920/danger__pay__all.asp” and adding “https://aoprals.state.gov/” in their places, respectively, to read as follows:

52.225-19 Contractor Personnel in a Designated Operational Area or Supporting a Diplomatic or Consular Mission Outside the United States.

* * * * *

Contractor Personnel in a Designated Operational Area or Supporting a Diplomatic or Consular Mission Outside the United States MAY 2020

* * * * *

[FR Doc. 2020-07111 Filed 5-5-20; 8:45 am]

BILLING CODE 6820-EP-P